DEPARTMENT OF AGRICULTURE

Farm Service Agency

Commodity Credit Corporation

Information Collection Request: Web-Based Supply Chain Management Commodity Offer Forms

AGENCY: Farm Service Agency and Commodity Credit Corporation, USDA.

ACTION: Notice; request for comments.

SUMMARY: In accordance with the Paperwork Reduction Act of 1995, the Farm Service Agency (FSA) and Commodity Credit Corporation (CCC) are seeking comments from all interested individuals and organizations on an extension, with a revision, of a currently approved information collection request. This information collection is necessary to support the procurement of agricultural commodities for domestic and export food donation programs. FSA and CCC issue invitations to purchase or sell commodities for food donation programs on monthly, multiple monthly, quarterly, and yearly bases. Special invitations, however, are issued throughout the month. Web-Based Supply Chain Management (WBSCM) allows respondents to submit information electronically.

DATES: Comments on this notice must be received on or before July 1, 2013.

ADDRESSES: We invite you to submit comments on this notice. In your comment, include the date and page number of this issue of the Federal Register. You may submit comments by any of the following methods:

• Federal eRulemaking Portal: Go to http://regulations.gov. Follow the online instructions for submitting comments.

• Mail: Penny Carlson, Chief, Business Operations Support Division, Kansas City Commodity Office (KCCO), P.O. Box 419205, Kansas City, Missouri 64141-6205.

Comments also should be sent to the Desk Officer for Agriculture, Office of Information and Regulatory Affairs, Office of Management and Budget, Washington, DC 20503. Copies of the information collection may be obtained from Penny Carlson at the above address.

FOR FURTHER INFORMATION CONTACT: Penny Carlson, Business Operations Support Division, phone (816) 926-2597.

SUPPLEMENTARY INFORMATION:

Title: WBSCM—Offer Forms.

OMB Number: 0560-0177.

Expiration Date: November 30, 2013.

Type of Request: Extension with a revision.

Abstract: The United States donates agricultural commodities domestically and overseas for famine or other relief requirements, to combat malnutrition, and sells or donates commodities to promote economic development. FSA and CCC issue invitations to purchase or sell agricultural commodities and services for use in domestic and export programs. Vendors respond by making offers using various FSA and CCC commodity offer forms.

This extension and revision of the information collection request is to allow for respondents to submit information electronically in WBSCM. The export offer information and the annual certification information will be entered and received electronically in WBSCM. Most of the domestic offer information will be entered and received electronically in WBSCM. Vendors will be able to access WBSCM to see the date and time the system shows for receipt of bid, bid modification, or bid cancellation information. At bid opening date and time, the bid information is evaluated through the system. Acceptances will be sent to the successful offerors electronically. Awarded contracts will be posted to the FSA Web site and also to the WBSCM portal and FedBizOpps (https://www.fbo.gov/). The reason for the change in burden hours is due to online system-WBSCM reducing data collection time; paper vs. WBSCM system.

Estimate of Burden: Public reporting burden for collecting information under this notice is estimated to average 15 to 30 minutes per response, including the time for reviewing instructions, searching existing data sources, gathering and maintaining the data needed, and completing and reviewing the collection of information.

Respondents: Business and other for-profit organizations.

Estimated Number of Respondents: 76.

Estimated Average Number of Responses per Respondent: 23.

Estimated Total Annual Responses: 858.

Estimated Total Annual Burden on Respondents: 237 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including name and addresses when provided, will be summarized and included in the request for OMB approval. All comments will also become a matter of public record.

Signed on April 19, 2013.
Juan M. Garcia,
Administrator, Farm Service Agency, and Executive Vice President, Commodity Credit Corporation.

[FR Doc. 2013-10215 Filed 4-30-13; 8:45 am]

BILLING CODE 3410-05-P